DEPARTMENT OF HEALTH AND HUMAN SERVICES

National Institutes of Health

National Cancer Institute; Amended Notice of Meeting

Notice is hereby given of a change in the meeting of the National Cancer Institute Special Emphasis Panel, October 26, 2006, 11 a.m. to October 26, 2006, 3 p.m. NIH Events Management, Executive Plaza, North, 6130 Executive Boulevard, Conference Room C, Rockville, MD 20852 which was published in the Federal Register on September 22, 2006, 71 FR 55498.

The meeting notice is changed to reflect the name of the committee from “SBIR Topics 210 and 213” to “SBIR Topic 210 Phase II ‘Using Social Marketing to Disseminate Evidence-based Energy Balance Intervention Approaches to Worksites’ ” The meeting is closed to the public.

Dated: October 6, 2006.
Linda Payne,
Acting Director, Office of Federal Advisory Committee Policy.

[FR Doc. 06-8693 Filed 10-13-06; 8:45 am]

BILLING CODE 4140-01-M